DEPARTMENT OF HOMELAND SECURITY

U.S. Citizenship and Immigration Services

[OMB Control Number 1615-0009]

Agency Information Collection Activities: Petition for a Nonimmigrant Worker, Form I-129; Revision of a Currently Approved Collection

ACTION: 30-Day notice.

SUMMARY: The Department of Homeland Security (DHS), U.S. Citizenship and Immigration Services (USCIS) will be submitting the following information collection request to the Office of Management and Budget (OMB) for review and clearance in accordance with the Paperwork Reduction Act of 1995. The information collection notice was previously published in the Federal Register on July 5, 2013, at 78 FR 40490, allowing for a 60-day public comment period. USCIS received comments in connection with the 60-day notice.

DATES: The purpose of this notice is to allow an additional 30 days for public comments. Comments are encouraged and will be accepted until November 25, 2013. This process is conducted in accordance with 5 CFR 1320.10.

ADDRESSES: Written comments and/or suggestions regarding the item(s) contained in this notice, especially regarding the estimated public burden and associated response time, must be directed to the OMB USCIS Desk Officer via email at oira_submission@omb.eop.gov. The comments submitted to the OMB USCIS Desk Officer may also be submitted to DHS via the Federal eRulemaking Portal Web site at http://www.regulations.gov under e-Docket ID number USCIS-2005-0030 or via email at uscisfrcomment@uscis.dhs.gov. All submissions received must include the agency name and the OMB Control Number 1615-0009.

Regardless of the method used for submitting comments or material, all submissions will be posted, without change, to the Federal eRulemaking Portal at http://www.regulations.gov, and will include any personal information you provide. Therefore, submitting this information makes it public. You may wish to consider limiting the amount of personal information that you provide in any voluntary submission you make to DHS. For additional information please read the Privacy Act notice that is available via the link in the footer of http://www.regulations.gov.

Note: The address listed in this notice should only be used to submit comments concerning this information collection. Please do not submit requests for individual case status inquiries to this address. If you are seeking information about the status of your individual case, please check “My Case Status” online at: https://egov.uscis.gov/cris/Dashboard.do, or call the USCIS National Customer Service Center at 1-800-375-5283.

Issues for Comment Focus

For Form I-129 and its supplements, USCIS is especially interested in the public's experience, input, and estimates on the burden in terms of time and money incurred by applicants for the following aspects of this information collection:

• The time burden incurred in reading the instructions, completing the form, obtaining supporting documentation; and

• For preparers who are paid, the expense to the respondent to find and secure such preparers for assistance and the amount that paid preparers charge for their services.

In addition, to truly be helpful to the improvement of this form and the program that oversees the services associated with this information collection written comments and suggestions from the public and affected agencies should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection Request: Revision of a Currently Approved Collection.

(2) Title of the Form/Collection: Petition for a Nonimmigrant Worker.

(3) Agency form number, if any, and the applicable component of the DHS sponsoring the collection: Form I-129; USCIS.

(4) Affected public who will be asked or required to respond, as well as a brief abstract: Primary: Business: This form is used by an employer to petition for aliens to come to the U.S. temporarily to perform services, labor, and training or to request extensions of stay or changes in nonimmigrant status for nonimmigrant workers.

(5) An estimate of the total number of respondents and the amount of time estimated for an average respondent to respond:

• Form I-129—333,891 respondents at 2.34 hours;

• E-1/E-2 Classification to Form I-129—4,760 respondents at .67 hours;

• Trade Agreement Supplement to Form I-129—3,057 respondents at .67 hours;

• H Classification Supplement to Form I-129—255,872 respondents at 2 hours;

• H-1B and H-1B1 Data Collection and Filing Fee Exemption Supplement—243,965 respondents at 1 hour;

• L Classification Supplement to Form I-129—37,831 respondents at 1.34 hours;

• O and P Classifications Supplement to Form I-129—22,710 respondents at 1 hour;

• Q-1 Classification Supplement to Form I-129—155 respondents at .34 hours; and

• R-1 Classification Supplement to Form I-129—6,635 respondents at 2.34 hours.

(6) An estimate of the total public burden (in hours) associated with the collection: 1,631,234 annual burden hours.

If you need a copy of the information collection instrument with supplementary documents, or need additional information, please visit http://www.regulations.gov. We may also be contacted at: USCIS, Office of Policy and Strategy, Regulatory Coordination Division, 20 Massachusetts Avenue NW., Washington, DC 20529-2140; Telephone 202-272-8377.

Dated: October 21, 2013.
Laura Dawkins,
Chief, Regulatory Coordination Division, Office of Policy and Strategy, U.S., Citizenship and Immigration Services, Department of Homeland Security.

[FR Doc. 2013-24982 Filed 10-23-13; 8:45 am]

BILLING CODE 9111-97-P